LEGAL SERVICES CORPORATION

Sunshine Act Meeting of the Board of Directors

Time and Date: The Annual Performance Reviews Committee of the Legal Services Corporation Board of Directors will meet on October 28, 2006. The meeting will begin at 8:30 a.m., and continue until conclusion of the Committee's agenda.

Location: The Charleston Marriott Town Center, 200 Lee Street East, Charleston, West Virginia.

Status of Meeting: Open.

Performance Reviews Committee

October 28, 2006

Agenda

Open Session

1. Approval of agenda.

2. Approval of minutes of the Committee's Closed Session meetings of February 4 and 5, 2005.

3. Approval of minutes of the Committee's Closed Session meeting of April 29, 2005.

4. Approval of minutes of the Committee's Closed Session meeting of July 28, 2005.

5. Approval of minutes of the Committee's Closed Session meeting of October 28, 2005.

6. Approval of minutes of the Committee's Closed Session meeting of January 27, 2006.

7. Consider and act on whether to undertake an annual performance review of the LSC Inspector General for 2006.

8. Planning for Performance Review of the President.

9. Consider and act on other business.

10. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia Batie at (202) 295-1500.

Dated: October 19, 2006.
Victor M. Fortuno,
Vice President for Legal Affairs, General Counsel & Corporate Secretary.

[FR Doc. 06-8857 Filed 10-19-06; 3:11 pm]

BILLING CODE 7050-01-P